DEPARTMENT OF AGRICULTURE

Forest Service

Modoc National Forest, CA; Restoration of the Sagebrush Steppe and Associated Ecosystems in Northeast California and Northwest Nevada Through Improved Management of Western Juniper and Other Natural Resources

AGENCY: Forest Service, USDA.

ACTION: Notice of intent to prepare an environmental impact statement.

SUMMARY: The Modoc National Forest and partner agencies including the U.S. Department of the Interior's Bureau of Land Management and Modoc County, California, are cooperating to develop a management plan and environmental impact statement to address restoration of sagebrush steppe ecosystems that have been impacted by rapidly expanded stands of Western juniper. The management plan will broadly identify appropriate treatment methodologies by soil and range site, provide guidelines for design and implementation of effective treatments, and provide a broad prioritization for treatment areas to be analyzed over a 30 year horizon. The ecosystem restoration projects, derived from this management structure, will restore biodiversity and productivity to these ecosystems, benefiting sagebrush obligate species such as sage-grouse, improving hydrologic conditions and enhancing the forage base for wildlife and domestic animals. Restoration projects will occur on National Forest lands and public lands administered by the BLM in parts of Modoc, Lassen, Shasta and Siskiyou counties, California and in Washoe County, Nevada. The planning area covers approximately 6.5 million acres of public and private land.This management plan will amend the Modoc National Forest Land and Resource Management Plan and BLM land use plans for the Alturas, Eagle Lake and Surprise field

DATES: Comments concerning the scope of the analysis should be received no later than 30 days after the publication of this notice in the Federal Register. The draft environmental impact statement is expected July 2006 and the final environmental impact statement is expected March 2007.

ADDRESSES: Stanley G. Silva, Sagebrush-Steppe Restoration, Modoc National Forest, 800 West 12th Street, Alturas, CA 96101.

FOR FURTHER INFORMATION CONTACT: Robinson (Rob) Jeffers, Project Coordinator, Modoc National Forest, Supervisor's Office, 800 W. 12th, Alturas, CA 96101 (530-233-8816). Comments sent via e-mail must be in MS Word or Rich Text Format sent to rgjeffers@fs.fed.us.

SUPPLEMENTARY INFORMATION:

Purpose and Need for Action: Over the past 100 to 150 years, Western juniper has increased approximately 15 fold in the 6.5 million acre analysis area. This expansion of Western juniper is largely attributed to the removal of fire from the ecosystem. Computer modeling based on soils types, and validated by state mapping of juniper coverage in 1887, indicated the presence of approximately 198,000 acres of juniper in the analysis area. Digital mapping and analysis was completed in 2002 that identified juniper occurrence on approximately 3 million acres.

This conversion of the sagebrush ecosystem to a predominantly juniper woodland type has resulted in a dramatic loss of biodiversity on the landscape, severely diminished habitat values, particularly for sage obligate species, and substantially degraded hydrologic conditions on many watersheds.

This pervasive loss of the sagebrush ecosystem, and its attendant vegetative, habitat, and hydrologic values, represents a compelling need for management action. The purpose of this project is to develop and institutionalize a juniper management strategy for public lands and National Forest System Lands encompassed by the 6.5 million acre analysis area, to restore the sagebrush ecosystem and associated vegetative communities to desired habitat conditions existing historically.

More specifically the strategy seeks, through improved juniper management, to restore sagebrush ecosystem vegetation composition, structure, function and distribution to historic configurations, so that historic fire return intervals can be sustained.

Additional objectives include improving watershed function and condition, managing fuels to conform to the National Fire Plan requirements, and implementing, where appropriate,national renewable energy direction.

Proposed Action: Federal managers of the Forest Service and the Bureau of Land Management propose to establish a long range strategy to restore the sagebrush-steppe ecosystem and related species habitat. The Environmental Impact Statement may result in amendment or revision of their respective land management plans to incorporate the land allocations, management direction, desired future conditions, treatment areas, methodological priorities, conservation measures and implementation schedule derived from the Sagebrush-Steppe Restoration Strategy.

For the Forest Service, this means amending/revising the Modoc National Forest Land and Resource Management Plan utilizing the information from this analysis. The Modoc National Forest will be publishing a separate notice to revise its Forest Plan in 2006 utilizing the 2004 Planning Rule. It is also anticipated that the Lassen, Shasta Trinity and Klamath National Forests may choose to amend their Land and Resource Management Plans based on this analysis as appropriate. The Alturas Field Office of the Bureau of Land Management will amend its Resource Management Plan to reflect the restoration strategy. It is anticipated that the Eagle Lake and Surprise Field Offices will also amend their plans as appropriate. The objective is to adopt an integrated management strategy to reduce the current level of western juniper encroachment across a 6.5 million acre planning area in an environmentally sensitive manner. Primary methods to be employed for western juniper reduction include fire treatment, mechanical treatment and hand treatment. Using this integrated approach, managers hope to treat up to 50,000 acres per year across all jurisdictions within the planning area. Annual treatments would require site specific environmental analysis to meet the objectives of the proposed strategy.

Once the western juniper canopy cover has been reduced on various habitat sites, maintenance of desired future conditions is the goal of the proposed action. Key representative range sites to be treated and desired future conditions include:

Loamy 14-16″ 50% grasses such as Idaho fescue, bluebunch wheatgrass, and Nevada bluegrass; 10% forbs such as mulesear, buckwheat and lupine; and 40% shrubs such as mountain big sagebrush, bitterbursh and mountain mahogany.

Shallow Loam 14″+ 30% grasses such as needlegrass, bluegrass and bluebunch wheatgrass, 20% forbs such as hawksbeard, lupine and yarrow and 50% shrubs such as low sagebrush, bitterbrush and rabbitbrush.

It is intended that western juniper will also be removed from associated upland range sites as well as ponderosa pine, Jeffrey pine, white fir forest associations, aspen stands and riparian sites.

For the purpose of developing the proposed action, certain landscape level planning assumptions were made regarding the viability of various treatment options. These assumptions would not necessarily apply to all site specific treatments. Among these assumptions:

• Where western juniper canopy cover exceeds 20%, there is probably inadequate understory or ladder fuel to carry a prescribed fire.

• By definition, wildland-urban interface (WUI) areas are in close proximity to residential, industrial or agricultural structures thereby increasing the complexity of fire treatments.

• 20% western juniper canopy cover is the approximate point at which it may become viable to remove juniper as a biomass product.

• Mechanical harvesting equipment operates most efficiently on less than 30% slopes.

• Using various techniques, it is possible to mechanically harvest juniper for biomass up to 1 mile distant from a road capable of supporting tractor-trailer traffic.

• Areas with less than 14″ of average annual precipitation are particularly susceptible to cheatgrass and noxious weed encroachment following disturbance and may require special attention relative to seeding and revegetation.

• On certain areas, juniper reduction efforts should be limited to hand treatment. These areas include heavy juniper canopy cover on slopes greater than 30%, juniper in riparian areas and steep drainages, juniper encroachment in sensitive wildlife habitat and juniper encroachment on archaeological sites.

Conservation measures relative to historic juniper sites, noxious weed prevention, cultural resource protection, wildlife habitat conservation, vegetation seeding and revegetation, and livestock grazing are included in the proposed action.

Proposed treatment strategies and approximate acreages potentially affected are described below:

Methodologies | Acres
Protection—Areas of naturally occurring juniper would be protected from disturbance | 198,000
Priority Mechanical Treatment—>20% juniper canopy cover, <30% slope, <1 mile from serviceable access road, 14″ precipitation | 337,000
Secondary Mechanical Treatment—>20% juniper canopy cover, <30% slope, <1 mile from serviceable access road, <14″ precipitation. During treatment, these areas would generally receive special attention in terms of revegetation and potential noxious weed issues | 30,000
Isolated Mechanical Treatment—>20% juniper canopy cover, <30% slope, >1 mile from serviceable access road, >14″ precipitation. These areas would generally require new road construction to remove juniper | 52,600
Secondary Isolated Mechanical Treatment—>20% juniper canopy cover, <30% slope, >1 mile from serviceable access road, <14″ precipitation. These areas would generally require new road construction to remove juniper and during treatment these areas would generally receive special attention in terms of revegetation and potential noxious weed issues | 1,400
Timber Management Mechanical Treatment—<20% juniper canopy cover associated with stands of pine and fir. Juniper would be removed during timber stand thinning operations | 751,000
Priority Prescribed Fire Treatment—<20% juniper canopy cover, >14″ precipitation, outside WUI | 847,000
Secondary Prescribed Fire Treatment—<20% juniper canopy cover, <14″ precipitation, outside WUI. These areas would generally receive special attention in terms of revegetation and potential noxious weed issues | 261,000
Priority WUI Prescribed Fire Treatment—<20% juniper canopy cover, >14″ precipitation, inside WUI. These fires would generally be of higher complexity due to their proximity to structures and people | 378,000
Secondary WUI Prescribed Fire Treatment—<20% juniper canopy cover, <14″ precipitation, inside WUI. These fires would generally be of higher complexity due to their proximity to structures and people. These areas would generally receive special attention in terms of revegetation and potential noxious weed issues | 105,000
Sensitive Area Hand Treatment—>20% juniper canopy cover, >30% slope or juniper stands of various canopy covers associated with sensitive resources such as within 100′ of perennial or seasonal drainages, cultural sites, sensitive habitat | 96,000

Summary: Of the 3,057,000 acres of western juniper within the 5.6 million acre planning area:

198,000 acres would be protected as naturally occurring juniper.
1,591,000 acres would be assess for potential prescribed fire treatment.
751,000 acres would be assessed for treatment in association with timber management.
421,000 acres would be assessed for potential mechanical treatment.
96,000 acres would be assessed for potential hand treatment.
3,057,000 acres

As part of the planning process, an implementation schedule for priority treatment areas would be developed.

Preliminary issues: Based on the public listening sessions held in July 2004 preliminary issues to be addressed in the EIS include: short term impacts on riparian areas, visual resources, wildlife habitat, and cultural resources; and long term potential for the introduction or spread of invasive species, impacts on rangeland permit holders, and nutrient cycling as a result of various treatment methods. In addition the risks associated with the introduction of a large scale prescribed fire treatment program will be evaluated.

Tentative Alternatives: At this time the agencies have identified the proposed action measured against the no-action alternative.

Lead Agency

USDA Forest Service, Modoc National Forest

Cooperating Agencies

USDI, Bureau of Land Management Alturas Field Office, 708 West 12th Street, Alturas CA 96101 (Contact Tim Burke (530) 233-4666)

Modoc County, California, Planning Department, Attention: Sean Curtis, 203 West 4th Street, Alturas, CA 96101.

Responsible Officials

Modoc National Forest Supervisor Stan Sylva and BLM Alturas Field Manager Tim Burke are the responsible officials for this planning effort.

Nature of Decision To Be Made

The responsible officials will utilize information from the environment impact statement to guide decision making concerning coordinating treatment projects across ownerships and in amending or revision of their resource management plans that provide guidance for subsequent site specific project analysis. Decisions related to the environmental impact statement are policy and strategic in nature and do not require implementation of projects or cause environmental impacts their positive or negative.

Scoping Process

The agencies held a series of seven informational meetings in communities across the planning area during the summer of 2004. The times and location for issue scoping meetings will be announced through the news media in the region and in direct mailings. Information on the proposed action will also be posted on the forest Web site, http://www.fs.ged.us/r5/modoc/projects/juniperstrategy.shtml, and advertised in the Modoc Record.

Comment Requested

This notice of intent initiates the scoping process which guides development of the environmental impact statement. The agencies will seek scoping comments relative to the extent of degradation of the sagebrush steppe ecosystems and associated natural resource issues to be addressed in the management plan and environmental impact statement. This notice of intent initiates the scoping process, which guides the development of the environmental impact statement. Comments submitted during this scoping process should be in writing and should be specific to the proposed action. The comments should describe as clearly and completely as possible any issues the commenter has with the proposal. The scoping process includes:

(a) Identifying potential issues.

(b) Identifying issues to be analyzed in depth.

(c) Eliminating non-significant issues or those previously covered by a relevant previous environmental analysis.

(d) Exploring additional alternatives.

(e) Identifying potential environmental effects of the proposed action and alternatives.

Early Notice of Importance of Public Participation in the Subsequently Environmental Review: A draft environmental impact statement will be prepared for public review and comment. A 45-day public comment period will be announced, starting from the date that the Environmental Protection Agency publishes a Notice of Availability in the Federal Register. The Forest Service believes, at this early stage, it is important to give reviewers notice of several court rulings related to public participation in the environmental review process. First, reviewers of draft environmental impact statements must structure their participation in the environmental review of the proposed so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: July 18, 2005.
Stanley G. Sylva,
Forest Supervisor, Modoc National Forest.

[FR Doc. 05-14638 Filed 7-25-05; 8:45 am]

BILLING CODE 3410-11-M